DEPARTMENT OF HOMELAND SECURITY

Federal Emergency Management Agency

[Docket ID FEMA-2016-0002; Internal Agency Docket No. FEMA-B-1601]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 5, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1601, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: March 20, 2016.
Roy E. Wright,
Deputy Associate Administrator for Insurance and Mitigation, Department of Homeland Security, Federal Emergency Management Agency.

I. Watershed-based studies:

Community | Community map repository address
San Bernard Watershed
Maps Available for Inspection Online at: http://www.fema.gov/preliminaryfloodhazarddata
Fort Bend County, Texas, and Incorporated Areas
City of Kendleton | City Hall, 430 Farm Market 2919, Kendleton, TX 77451.
Unincorporated Areas of Fort Bend County | Fort Bend County Drainage District, 1124 Blume Road, Rosenberg, TX 77471.
Wharton County, Texas, and Incorporated Areas
City of East Bernard | City Hall, 704 Church Street, East Bernard, TX 77435.
City of Wharton | City Hall, 120 East Caney Street, Wharton, TX 77488.
Unincorporated Areas of Wharton County | Wharton County Annex, 315 East Milam Street, Suite 102, Wharton, TX 77488.

II. Non-watershed-based studies:

Community | Community map repository address
Boulder County, Colorado, and Incorporated Areas
Maps Available for Inspection Online at: http://www.fema.gov/preliminaryfloodhazarddata
Project: 15-08-0076S Preliminary Date: July 23, 2015
City of Boulder | Municipal Building Plaza, 1777 Broadway, Boulder, CO 80302.
Unincorporated Areas of Boulder County | Boulder County Transportation Department, 2525 13th Street, Suite 203, Boulder, CO 80304.
El Paso County, Colorado, and Incorporated Areas
Maps Available for Inspection Online at: http://www.fema.gov/preliminaryfloodhazarddata
Project: 07-08-0392S Preliminary Date: July 29, 2015
City of Colorado Springs | City Administration, 30 South Nevada Avenue, Colorado Springs, CO 80903.
City of Fountain | City Hall, 116 South Main Street, Fountain, CO 80817.
City of Manitou Springs | City Hall, 606 Manitou Avenue, Manitou Springs, CO 80829.
Town of Calhan | Town Hall, 556 Colorado Avenue, Calhan, CO 80808.
Town of Green Mountain Falls | Town Hall, 10615 Unit B Green Mountain Falls Road, Green Mountain Falls, CO 80819.
Town of Monument | Town Hall, 645 Beacon Lite Road, Monument, CO 80132.
Town of Palmer Lake | Town Hall, 42 Valley Crescent Street, Palmer Lake, CO 80133.
Town of Ramah | Town Hall, 113 South Commercial Street, Ramah, CO 80832.
Unincorporated Areas of El Paso County | Pikes Peak Regional Building Department, 2880 International Circle, Colorado Springs, CO 80910.
Summit County, Colorado, and Incorporated Areas
Maps Available for Inspection Online at: http://www.fema.gov/preliminaryfloodhazarddata
Project: 13-08-0037S Preliminary Date: June 25, 2015
Town of Blue River | Town Hall, 0110 Whispering Pines Circle, Blue River, CO 80424.
Town of Breckenridge | Town Hall, 150 Ski Hill Road, Breckenridge, CO 80424.
Town of Frisco | Town Hall, One Main Street, Frisco, CO 80443.
Town of Silverthorne | Town Hall, 601 Center Circle, Silverthorne, CO 80498.
Unincorporated Areas of Summit County | Frisco Commons Building, 0037 Peak One Drive, Frisco, CO 80443.
Allegany County, Maryland, and Incorporated Areas
Maps Available for Inspection Online at: http://www.fema.gov/preliminaryfloodhazarddata
Project: 09-03-0015S Preliminary Date: September 30, 2015
City of Cumberland | City Hall, 57 North Liberty Street, Cumberland, MD 21502.
City of Frostburg | City Hall, 59 East Main Street, Frostburg, MD 21532.
Town of Barton | Town Hall, 19018 Legislative Road SW, Barton, MD 21521.
Town of Lonaconing | Town Hall, Seven Jackson Street, Lonaconing, MD 21539.
Town of Luke | City Building, 510 Grant Street, Luke, MD 21540.
Town of Midland | Town Hall, 19823 Big Lane SW, Midland, MD 21532.
Town of Westernport | City Building, 107 Washington Street, Westernport, MD 21562.
Unincorporated Areas of Allegany County | County Office Building, 701 Kelly Road, Cumberland, MD 21502.
Erie County, Pennsylvania (All Jurisdictions)
Maps Available for Inspection Online at: http://www.fema.gov/preliminaryfloodhazarddata
Project: 13-03-0299S Preliminary Date: December 18, 2015
Borough of Lake City | Borough Building, 2350 Main Street, Lake City, PA 16423.
City of Erie | Mayor's Office, 626 State Street, Room 500, Erie, PA 16501.
Township of Fairview | Township Building, 7471 McCray Road, Fairview, PA 16415.
Township of Girard | Township Building, 10140 Ridge Road, Girard, PA 16417.
Township of Harborcreek | Township Building, 5601 Buffalo Road, Harborcreek, PA 16421.
Township of Lawrence Park | Lawrence Park Township Building, 4230 Iroquois Avenue, Erie, PA 16511.
Township of Millcreek | Millcreek Township Municipal Building, 3608 West 26th Street, Erie, PA 16506.
Township of North East | Township Building, 10300 West Main Street, North East, PA 16428.
Township of Springfield | Springfield Township Building, 13300 Ridge Road, West Springfield, PA 16443.
Dorchester County, South Carolina, and Incorporated Areas
Maps Available for Inspection Online at: http://www.fema.gov/preliminaryfloodhazarddata
Project: MICS-18447 Preliminary Date: November 13, 2015
Town of Summerville | Engineering Department, 200 South Main Street, Summerville, SC 29483.
Wharton County, Texas, and Incorporated Areas
Maps Available for Inspection Online at: http://www.fema.gov/preliminaryfloodhazarddata
Project: 14-06-1566S Preliminary Date: August 21, 2015
City of East Bernard | City Hall, 704 Church Street, East Bernard, TX 77435.
City of Wharton | City Hall, 120 East Caney Street, Wharton, TX 77488.
Unincorporated Areas of Wharton County | Wharton County Annex, 315 East Milam Street, Suite 102, Wharton, TX 77488.

[FR Doc. 2016-07494 Filed 4-1-16; 8:45 am]

BILLING CODE 9110-12-P